DEPARTMENT OF THE INTERIOR

National Park Service

Notice of Inventory Completion: Kingman Museum, Incorporated, Battle Creek, MI; Correction

AGENCY: National Park Service, Interior.

ACTION: Notice; correction.

SUMMARY: This notice corrects the cultural affiliation of the human remains of two individuals described in a Notice of Inventory Completion previously published in the Federal Register (73 FR 20941-20942, Thursday, April 17, 2008), and also corrects the identity of the category of cultural item for a scalp, from human remains to associated funerary object.

DATES: Representatives of any other Indian tribe that believes it has a cultural affiliation with the human remains and associated funerary objects should contact the Kingman Museum, Incorporated at the address below by March 7, 2012.

ADDRESSES: Beth Yahne, Kingman Museum, Inc., 175 Limit Street, Battle Creek, MI 49037, telephone (269) 965-5117.

SUPPLEMENTARY INFORMATION: Notice is here given in accordance with the Native American Graves Protection and Repatriation Act (NAGPRA), 25 U.S.C. 3003, of the completion of an inventory of human remains and associated funerary objects in the possession of Kingman Museum, Incorporated (Kingman Museum), Battle Creek, MI. The human remains and associated funerary objects were removed from a cave on an island near Metlakatla, AK.

This notice is published as part of the National Park Service's administrative responsibilities under NAGPRA, 25 U.S.C. 3003 (d)(3). The determinations in this notice are the sole responsibility of the museum, institution or Federal agency that has control of the Native American human remains and associated funerary objects. The National Park Service is not responsible for the determinations in this notice.

Consultation

A detailed assessment of the human remains was made by the Kingman Museum professional staff in consultation with representatives from the Metlakatla Indian Community and the Central Council of Tlingit and Haida Indian Tribes of Alaska.

In the Federal Register notice (73 FR 20941-20942, Thursday, April 17, 2008), paragraph number 5 is corrected by substituting the following paragraph:

Sometime before 1904, human remains representing, at minimum, one individual were removed from a mountain cave on an island near Metlakatla, AK. According to museum documentation, the human remains, consisting of a mummified head, were found by two Native American boys and subsequently collected by Esther Gibson, an Alaskan missionary. The mummified head was in a burial box containing a cedar bark basket used for cremation ashes, a buckskin pouch, and the scalp of a Caucasian man. Esther Gibson delivered the human remains and funerary objects to Dr. John Harvey Kellogg, who donated them to the Kingman Museum of Natural History in 1904. No known individuals were identified. The four associated funerary objects are one burial box, one basket for cremation ashes, one buckskin pouch, and the scalp of a Caucasian man.

Paragraph number 6 is corrected by substituting the following paragraph:

The human remains have been identified as Native American based on the museum's documentation, geographic information, and consultation evidence. The location of the burial is within the historically documented territory of the Tlingit Indians. Based on burial practices and the styles of associated funerary objects, the human remains are post-contact, and likely date to the mid 19th century. Information provided at the time of consultation indicates that the human remains and associated funerary objects are likely to be affiliated to the members of the Central Council of Tlingit and Haida Indian Tribes of Alaska.

Paragraph number 9 is corrected by substituting the following paragraph:

Officials of Kingman Museum have determined that:

• Pursuant to 25 U.S.C. 3001 (9-10), the human remains described above represent the physical remains of a minimum of two individuals of Native American ancestry.

• Pursuant to 25 U.S.C. 3001 (3)(A), the four objects listed above are reasonably believed to have been placed with or near individual human remains at the time of death or later as part of the death rite ceremony.

• Pursuant to 25 U.S.C. 3001 (2), there is a relationship of shared group identity that can be reasonably traced between the mummified head and associated funerary objects, and the Central Council of Tlingit and Haida Indian Tribes of Alaska.

Additional Requestors and Disposition

Representatives of any other Indian tribe that believes itself to be culturally affiliated with the human remains and associated funerary objects should contact Beth Yahne, Kingman Museum, Incorporated, 175 Limit Street, Battle Creek, MI 49037 telephone (269) 965-5117, before March 7, 2012. Repatriation of the human remains and associated funerary objects to the Central Council of Tlingit and Haida Indian Tribes of Alaska may proceed after that date if no additional claimants come forward.

The Kingman Museum, Incorporated is responsible for notifying the Central Council of Tlingit and Haida Indian Tribes of Alaska that this notice has been published.

Dated: January 31, 2012.
Sherry Hutt,
Manager, National NAGPRA Program.

[FR Doc. 2012-2522 Filed 2-3-12; 8:45 am]

BILLING CODE P